ENVIRONMENTAL PROTECTION AGENCY

[EPA-HQ-OPP-2007-0343; FRL-8127-4]

Soil Fumigant Pesticides; Notice of Public Meetings

AGENCY: Environmental Protection Agency (EPA).

ACTION: Notice.

SUMMARY: EPA's Office of Pesticide Programs (OPP) is planning to hold two stakeholder meetings to obtain public input on risk management options for the soil fumigant pesticides chloropicrin, dazomet, metam sodium, metam potassium, and methyl bromide. Reregistration for 1,3-dichloropropene (1,3-D or Telone) was completed in 1998, but it is included in the review for comparative purposes. The public meetings will be held in the states of Washington and Florida in late May and early June 2007. The purpose of the meetings is for the Agency to obtain first-hand comments on possible human health risk mitigation options from stakeholders who are most affected by soil fumigant use, including growers, professional fumigant applicators, farm workers, neighbors and community members, local officials, and others. EPA also plans to participate in a stakeholder meeting focusing on risk mitigation options for the soil fumigants metam sodium and metam potassium, held by the California Department of Pesticide Regulation in late May 2007. California and EPA have been working together on soil fumigant issues during the last several years, and use similar approaches to reduce exposure. Stakeholders' comments at these meetings will help inform EPA's decision later this year on the reregistration eligibility of several soil fumigant pesticides. Through the reregistration program, EPA is ensuring that all pesticides meet current health and safety standards.

DATES: The meeting in Richland, Washington will be held on May 22, 2007 from 9 a.m. to 5 p.m. The meeting in Ft. Myers, Florida will be held on June 6, 2007 from 9 a.m. to 5 p.m.

To request accommodation of a disability, please contact the person listed under FOR FURTHER INFORMATON CONTACT, preferably at least 10 days prior to the meeting, to give EPA as much time as possible to process your request. Spanish language translation will be available at both meetings.

ADDRESSES: The Washington meeting will be held at the Federal Building, 825 Jadwin Avenue, Richland, Washington 99352. The Florida meeting will be held at the Harborside Event Center, 1375 Monroe Street, Ft. Myers, Florida 33901.

FOR FURTHER INFORMATION CONTACT: For Washington meeting information contact. Veronique LaCapra, Special Review and Reregistration Division (7508P), Office of Pesticide Programs, Environmental Protection Agency, 1200 Pennsylvania Ave., NW., Washington, DC 20460-0001; telephone number: (703) 605-1525; fax number: (703) 308-8090; e-mail address: lacapra.veronique@epa.gov/.

For Florida meeting information contact. Nathan Mottl, Special Review and Reregistration Division (7508P), Office of Pesticide Programs, Environmental Protection Agency, 1200 Pennsylvania Ave., NW., Washington, DC 20460-0001; telephone number: (703) 305-0208; fax number: (703) 308-7070; e-mail address: mottl.nathan@epa.gov/.

For general information contact. John Leahy, Special Review and Reregistration Division (7508P), Office of Pesticide Programs, Environmental Protection Agency, 1200 Pennsylvania Ave., NW., Washington, DC 20460-0001; telephone number: (703) 305-6703; fax number: (703) 308-8090; e-mail address: leahy.john@epa.gov/.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0343. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Background

EPA is currently reviewing six soil fumigant pesticides. Four of the six are in review for reregistration, including chloropicrin, dazomet, metam sodium, metam potassium, and methyl bromide. A fifth chemical, iodomethane, is being reviewed for registration and is a possible alternative to methyl bromide. Reregistration for 1,3-dichloropropene (1,3-D or Telone) was completed in 1998, but is included in the review for comparative purposes.

EPA is reviewing the soil fumigant pesticides using the 6-Phase Public Participation Process described in the Agency's May 14, 2004 Federal Register notice (69 FR 26819)(FRL-7357-9). During Phase 5, the Agency is issuing for public comment revised risk assessments, benefits assessments, and a paper outlining risk management options for the soil fumigants. To obtain additional, first-hand input from stakeholders, EPA is holding meetings during the Phase 5 public comment period in areas of high soil fumigant use.

EPA will begin each public meeting with a brief overview of predicted risks and benefits of soil fumigant use, as well as possible measures that the Agency expects will reduce risks. After providing guidelines for making comments, the Agency will take comments from the public during the remainder of the day. EPA plans to transcribe the meetings so that comments received can be placed in the docket where they will be available to other members of the public.

EPA also plans to participate in a stakeholder meeting held by the California Department of Pesticide Regulation on May 30, 2007, focusing on California's risk management proposals for soil fumigants that produce MITC, specifically metam sodium and metam potassium. California and EPA have been working together on soil fumigant issues during the last several years. Because the mitigation proposals for these chemicals include similar approaches to reduce exposures, EPA will also consider public comments provided by stakeholders during this meeting. Please visit the California Department of Pesticide Regulation website for more information: http://www.cdpr.ca.gov/.

After considering all information and comments received during Phase 5 through the public meetings and the docket, EPA plans to develop risk management decisions for the soil fumigant pesticides later in 2007.

List of Subjects

Environmental protection, Pesticides and pests.

Dated: April 24, 2007.
Peter Caulkins,
Acting Director, Special Review and Reregistration Division, Office of Pesticide Programs.

[FR Doc. E7-8277 Filed 5-1-07; 8:45 am]

BILLING CODE 6560-50-S